DEPARTMENT OF DEFENSE

Defense Acquisition Regulations System

48 CFR Part 252

Solicitation Provisions and Contract Clauses

CFR Correction

In Title 48 of the Code of Federal Regulations, Chapter 2, Parts 200 to 299, revised as of October 1, 2014, on page 466, in section 252.225-7036, in the clause, paragraph (d) is reinstated to read as follows:

252.225-7036 Buy American—-Free Trade Agreements—-Balance of Payments Program.

* * * * *

(d) The contract price does not include duty for end products or components for which the Contractor will claim duty-free entry.

* * * * *

[FR Doc. 2015-23471 Filed 9-18-15; 8:45 am]

BILLING CODE 1505-01-D